DEPARTMENT OF VETERANS AFFAIRS

Advisory Committee on Disability Compensation, Notice of Meeting Cancellation

The Department of Veterans Affairs (VA) gives notice under the Federal Advisory Committee Act, 5 U.S.C. Ch. 10, that the Advisory Committee on Disability Compensation, previously scheduled to be held on September 4 and September 5, 2025, has been cancelled.

For more information, please Jadine Piper, Designated Federal Officer, Veterans Benefits Administration, Compensation Service at 202-461-8459 or via email at 21C_ACDC.VBACO@va.gov.

Dated: August 21, 2025.
Jelessa M. Burney,
Federal Advisory Committee Management Officer.

[FR Doc. 2025-16202 Filed 8-22-25; 8:45 am]

BILLING CODE 8320-01-P